ENVIRONMENTAL PROTECTION AGENCY

[AMS-FRL-7231-2]

Meeting of the Clean Diesel Independent Review Panel

AGENCY: Environmental Protection Agency (EPA).

ACTION: Notice of meeting.

SUMMARY: Pursuant to the Federal Advisory Committee Act, Public Act, Public Law 92-463, notice is hereby given that the Clean Diesel Independent Review Panel of the Clean Air Act Advisory Committee will hold its second meeting on June 27 and 28. All panel meetings are open to the public. The preliminary agenda for this meeting will be available on the panel's website in mid-June: http://www.epa.gov/air/caaac/clean_diesel.html.

DATES: Thursday, June 27, 2002, from 10:00 a.m. to 5:30 p.m. Registration begins at 9:30 a.m. Friday, June 28, 2002, from 8:30 a.m. to 4:00 p.m.

ADDRESSES: The meeting will be held at the Radisson Hotel Old Town, 901 N. Fairfax Street, Alexandria, VA 22314, (703) 683-6000.

FOR FURTHER INFORMATION CONTACT: Technical Information: Ms. Mary Manners, Designated Federal Official, U.S. EPA, National Vehicle and Fuels Emission Laboratory, Assessment and Standards Division, 2000 Traverwood, Ann Arbor, MI 48105; telephone: (734) 214-4873, fax: (734) 214-4051, e-mail: manners.mary@epa.gov.

Logistical and Administrative Information: Ms. Julia MacAllister, FACA Management Officer, National Vehicle and Fuels Emission Laboratory, Assessment and Standards Division, 2000 Traverwood, Ann Arbor, MI 48105; telephone: (734) 214-4131, fax: (734) 214-4816, e-mail: macallister.julia@epa.gov.

Current Information: http://www.epa.gov/air/caaac/subcommittees.html. Individuals or organizations wishing to provide comments to the panel should submit them to Ms. Manners at the address above by September 30, 2002. The Clean Diesel Independent Review Panel expects that public statements presented at its meetings will not be repetitive of previously submitted oral or written statements.

Dated: June 10, 2002.
Margo Tsirigotis Oge,
Director, Office of Transportation and Air Quality.

[FR Doc. 02-15072 Filed 6-12-02; 8:45 am]

BILLING CODE 6560-50-P